DEPARTMENT OF DEFENSE

Office of the Secretary

[Docket ID: DoD-2015-HA-0006]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 30, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Assistant Secretary of Defense for Health Affairs (OASD), Falls Church, VA 22041-3206, or call (703) 681-0039.

SUPPLEMENTARY INFORMATION: Title; Associated Form; and OMB Number: Defense Medical Human Resources System internet (DMHRSi); OMB Control Number 0720-0041.

Needs and Uses: DMHRSi is a Department of Defense software application that provides the Military Health System (MHS) with a comprehensive enterprise human resource system with capabilities to manage personnel, manpower, education & training, labor cost assignment and readiness functional areas. It has built-in safeguards to limit access and visibility of personal or sensitive information in accordance with the Privacy Act of 1974. The application accounts for everyone in the MHS—Active Duty, Reserves, National Guard, government civilian, contractors and volunteers assigned or borrowed—this also includes nonappropriated fund employees and foreign nationals.

Affected Public: Federal Government, Individuals or households. Business or other For-Profit and Not-For-Profit Institutions.

Annual Burden Hours: 10,625.

Number of Respondents: 85,000.

Responses per Respondent: 1.

Average Burden per Response: 7.5 minutes.

Frequency: Quarterly.

The Defense Medical Human Resources System—internet—DMHRSi is a Department of Defense application that provides the MHS with a joint comprehensive enterprise human resource system with capabilities to manage human capital across the entire spectrum of medical facilities and person types—military, civilian, contractor, Reserve component and volunteer. DMHRSi not only provides visibility of all personnel working within MHS activities, it assists in the standardization/centralization of Joint medical HR information; accurate Joint data collection and reporting and standardized management and analysis. DMHRSi is deployed to all DHP funded activities and includes 170K MHS users, The system utilizes best practices in a commercial off the shelf application across five functional areas—Manpower management, Personnel management, Labor Cost Assignment, Education and Training management, and Medical Readiness. The Manpower management function provides a standard MHS information system to support efficient medical personnel distribution at the activity level to include: Education, training, provider and support staff assignment, and labor utilization and cost. Additionally, DMHRSi facilitates medical manpower requirements and authorization tracking and reporting at a Joint level in peacetime and wartime. The personnel management function provides personnel visibility and accountability across the MHS as well as the ability to match personnel assets to command needs and assign individuals to work centers. This includes Defense Health Program (DHP) and non-DHP personnel including, civilians, volunteers and contractor personnel. Additionally, staffing and scheduling supports duty assignments, labor utilization, and workload acuity measurement and reporting. It standardizes and streamlines business processes on a Joint level. For Labor Cost Assignment, DMHRSi provides the ability to assign the costs of the human capital assets to the appropriate health care delivery product line, education and training efforts, or mandated readiness activities as mandated by Medical Expense Performance Reporting System (MEPRS) guidelines. This joint tool replaces three distinct Service-level MEPRS tools. The MHS has a more precise method of recording of labor hours and more accurate reporting of costs accrued and resource utilization thus, resulting in more timely and detailed data for executive information and decision making. For Education and Training, DMHRSi centralizes education and training data and resources and enables online registration and approval of courses supports MHS health care personnel education, training, and course management for individual development and maintenance of skills and command specific needs. The education and training features feeds into the Readiness requirements. For Readiness, DMHRSi supports individual personnel and unit readiness in documenting, monitoring, evaluating and reporting of ongoing person-specific and team/unit personnel training and certification to provide immediate readiness status for deployment to theater operations.

The information in DMHRSi is sometimes personal or sensitive; therefore, it contains built-in safeguards to limit access and visibility of this information. DMHRSi uses role-based security so a user sees only the information for which permission has been granted. It uses state-of-the-market 128-bit encryption security for our transactions. It is DIACAP certified having been subjected to and passed thorough security testing and evaluation by independent parties. It meets safeguards specified by the Privacy Act of 1974 in that it maintains a published Department of Defense (DoD) Privacy Impact Assessment and System of Record covering Active Duty Military, Reserve, National Guard, and government civilian employees, to include non-appropriated fund employees and foreign nationals, DoD contractors, and volunteers. DMHRSi is hosted in a secure facility managed by the Defense Information Systems Agency. A detailed Privacy Act Statement appears prior to system access. As an HR system, DMHRSi will collect and store Social Security Numbers (SSN). Although DMHRSi issues each individual a distinctive employee number, collection of SSNs is required for successful continuity of operations within DoD and interoperability with federal organizations external to DoD. As the DoD and other federal organizations migrate from the use of the SSN as a primary means of identification in accordance with executive guidelines, DMHRSi will reduce usage. Protection of personally identifiable information (PII) is required by federal statues and policy and DoD guidelines and regulations. Future capabilities include an even greater reduction in access and full encryption of PII.

Dated: January 26, 2015.
Aaron Siegel,
Alternate OSD Federal Register Liaison Officer, Department of Defense.

[FR Doc. 2015-01657 Filed 1-28-15; 8:45 am]

BILLING CODE 5001-06-P